FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, November 15, 2016, to consider the following matters:

Summary Agenda: No substantive discussion of the following items is anticipated. These matters will be resolved with a single vote unless a member of the Board of Directors requests that an item be moved to the discussion agenda.

Disposition of minutes of previous Board of Directors' Meetings.

Memorandum and resolution re: Notice of Proposed Rulemaking: Removing Former OTS Rule Part 390 Subpart I and Revising FDIC Rule Part 343 (Consumer Protections in the Sale of Insurance).

Memorandum and resolution re: Interim Final Rule Amending the FDIC's Freedom of Information Act Regulations at 12 CFR 309.2 (Definitions), 12 CFR 309.4 (Publicly available records) and 12 CFR 309.5 (Procedures for requesting records).

Reports of the Office of Inspector General.

Discussion Agenda:

Memorandum and resolution re: Final Rule—Recordkeeping for Timely Deposit Insurance Determination.

The meeting will be held in the Board Room located on the sixth floor of the FDIC Building located at 550 17th Street NW., Washington, DC.

This Board meeting will be Webcast live via the Internet and subsequently made available on-demand approximately one week after the event. Visit http://fdic.windrosemedia.com to view the event. If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: November 8, 2016.
Federal Deposit Insurance Corporation.
Robert E. Feldman,
Executive Secretary.

[FR Doc. 2016-27385 Filed 11-9-16; 11:15 am]

BILLING CODE P